DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Licensing Opportunity

From the National Institutes of Health

Target-Specific Activatable Optical Probes for In Vivo Imaging

Description of Technology

Available for licensing and commercial development is an optical imaging method capable of detecting living cancer cells in vivo. The method increases sensitivity and reduces the background signal to extremely low levels. In contrast to conventional fluorescent imaging, the strategy activates the probe after it binds to and is internalized within cancer cells. Using antibodies, reagent-receptor systems, or cytokines to target the agent to the cancer, the agent is internalized by the normal cellular process of endocytosis which in turn, leads to molecular changes within the probe itself; fluorophores are activated only in the living targeted cells.

An activatable fluorophore is one that is normally self-quenched by attachment to a peptide backbone but which can be activated by specific proteases which degrade the peptide resulting in “de-quenching.” For example, self-quenching avidin-rhodaminex, which has affinity for lectin on cancer cells, is activated after endocytosis and degradation within the lysosome. Cellular internalization of receptor-ligand pairs with subsequent activation of fluorescence via “de-quenching” provides a generalizable and highly sensitive method of detecting cancer microfoci in vivo and has practical implications for assisting surgical and endoscopic procedures.

Application(s)

2. Optical detection of tumor cells and metastatic nodules

4. Photodynamic treatment of tumors

Market

• Cancer Imaging

Development Status

• Early-stage technology with pre-clinical mouse models as of 18 July 2006

Inventors

• Hisataka Kobayashi (NCI)

• Peter Choyke (NCI)

• Urano Yasuteru (University of Tokyo)

Patent Status

• U.S. Provisional Patent Application filed June 30, 2006 (serial number not assigned); closely related to HHS Ref. No. E-335-2005; U.S. Provisional Patent Application No. 60/751,429 filed December 16, 2005.

Availability

• Available for exclusive, non-exclusive licensing or collaborative opportunity.

Licensing Contact

Chekesha S. Clingman, PhD., Technology Licensing Specialist, Office of Technology Transfer, The National Institutes of Health, 6011 Executive Blvd., Suite 325, Rockville, MD 20852, phone: (301) 435-5018, fax: (301) 402-0220, clingmac@mail.nih.gov.

Collaborative Research Opportunity

The NCI Molecular Imaging Program is seeking statements of capability or interest from parties interested in collaborative research to further develop, evaluate, or commercialize target specific activatable optical probes. Please contact Hisataka Kobayashi or Peter Choyke at 301-451-4220 pchoyke@nih.gov for more information.

Dated: July 31, 2006.
Steven M. Ferguson,
Director, Division of Technology Development and Transfer, Office of Technology Transfer, National Institutes of Health.

[FR Doc. 06-6881 Filed 8-11-06; 8:45 am]

BILLING CODE 4140-01-M